DEPARTMENT OF THE INTERIOR

Fish and Wildlife Service

Receipt of Application of Endangered Species Recovery Permits

AGENCY: Fish and Wildlife Service, Interior.

ACTION: Notice of availability and receipt of applications.

SUMMARY: We announce our receipt of applications to conduct certain activities pertaining to enhancement of survival of endangered species.

DATES: Written comments on this request for a permit must be received by March 6, 2006.

ADDRESSES: Written data or comments should be submitted to the Assistant Regional Director—Ecological Services, U.S. Fish and Wildlife Service, P.O. Box 25486, Denver Federal Center, Denver, Colorado 80225-0486; facsimile 303-236-0027.

Availability of Documents: Documents and other information submitted with these applications are available for review, subject to the requirements of the Privacy Act [5 U.S.C. 552A] and Freedom of Information Act [5 U.S.C. 552], by any party who submits a request for a copy of such documents within 20 days of the date of publication of this notice to Kris Olsen, by mail (see ADDRESSES) or by telephone at 303-236-4256. All comments received from individuals become part of the official public record.

SUPPLEMENTARY INFORMATION: The following applicants have requested issuance of enhancement of survival permits to conduct certain activities with endangered species pursuant to section 10(a)(1)(A) of the Endangered Species Act of 1973, as amended (16 U.S.C. 1531 et seq.).

Applicant: TE-039090, Tony Korth, Ak-Sar-Ben Aquarium, Nebraska Game and Parks Commission, Gretna, Nebraska. The applicant requests a renewed permit to take Pallid sturgeons (Scaphirhynchus albus) in conjunction with recovery activities throughout the species' range for the purpose of enhancing their survival and recovery.

Applicant: TE-040510, William Butler, ERO Resources Corporation, Denver, Colorado

The applicant requests a renewed permit to take Southwestern willow flycatchers (Empidonax traillii extimus) in conjunction with recovery activities throughout the species' range for the purpose of enhancing their survival and recovery.

Applicant: TE-040837, Ronald Kass, Intermountain Ecosystems, Springville, Utah

The applicant requests a renewed permit to take Southwestern willow flycatchers (Empidonax traillii extimus) in conjunction with recovery activities throughout the species' range for the purpose of enhancing their survival and recovery.

Applicant: TE-046427, Thomas Fenske, Landry's Downtown Aquarium, Denver, Colorado

The applicant requests a renewed permit to display Bonytail (Gila elegans), Humpback chub (Gila cypha), Colorado pikeminnow (Ptychocheilus lucius), Razorback sucker (Xyrauchen texanus), Desert pupfish (Cyprinodon macularius), Gila topminnow (Poeciliopsis occidentialis), Green sea turtles (Chelonia mydas agassisi) in conjunction with recovery activities for the purpose of enhancing their survival and recovery.

Applicant: TE-047260, Steve Beverlin, U.S. Forest Service, Dolores Public Lands Office, Dolores, Colorado

The applicant requests a renewed permit to take Southwestern willow flycatchers (Empidonax traillii extimus) in conjunction with recovery activities throughout the species' range for the purpose of enhancing their survival and recovery.

Applicant: TE-047285, Patrick Braaten, U.S. Geological Survey, Fort Peck, Montana

The applicant requests a renewed permit to take Pallid sturgeons (Scaphirhynchus albus) in conjunction with recovery activities throughout the species' range for the purpose of enhancing their survival and recovery.

Applicant: TE-062035, Rob Holm, U.S. Fish and Wildlife Service, Garrison Dam, National Fish Hatchery, Riverdale, North Dakota

The applicant requests a renewed permit to take Pallid sturgeons (Scaphirhynchus albus) in conjunction with recovery activities throughout the species' range for the purpose of enhancing their survival and recovery.

Applicant: TE-109048, Herbert Bollig, U.S. Fish and Wildlife Service, Gavins Point National Fish Hatchery, Yankton, South Dakota

The applicant requests a permit to take Pallid sturgeons (Scaphirhynchus albus) in conjunction with recovery activities throughout the species' range for the purpose of enhancing their survival and recovery.

Dated: January 18, 2006.
Mike Stempel,
Acting Regional Director, Denver, Colorado.

[FR Doc. E6-1467 Filed 2-2-06; 8:45 am]

BILLING CODE 4310-55-P